DEPARTMENT OF THE INTERIOR

National Park Service

30-Day Notice of Intention To Request Clearance of Collection of Information; Opportunity for Public Comment

AGENCY: Department of the Interior, National Park Service.

ACTION: Notice and request for comments.

SUMMARY: Consistent with the Paperwork Reduction Act of 1995 and 5 CFR Part 1320. Reporting and Record Keeping Requirements, the National Park Service (NPS) hereby publishes and invites comments on the proposed new U.S. World Heritage Tentative List (OMB #1024-0050).

DATES: Public comments on this Information Collection Request (ICR) will be accepted on or before November 30, 2007.

ADDRESSES: Send comments to: Jonathan Putnam, Office of International Affairs, NPS, 1201 Eye Street, NW., (0050), Washington, DC 20005; or via e-mail at jonathan_putnam@nps.gov ; or via phone at 202/354-1809; or via fax at 202/371-1446. Also, you may send comments to Leonard Stowe, NPS Information Collection Clearance Officer, 1849 C St., NW., (2605), Washington, DC 20240; or by e-mail at leonard_stowe@nps.gov. All comments will become a matter of public record.

FOR FURTHER INFORMATION CONTACT: Jonathan Putnam at 202/354-1809, or April Brooks at 202/354-1808. General information about the Tentative List process is posted on the Office of International Affairs Web site at http://www.nps.gov/oia/topics/worldheritage/tentativelist.htm. The NPS staff report, including summaries of information on each site referenced in the draft Tentative List being published in this notice, is posted in its entirety on the Internet at http://www.nps.gov/oia/TLEssayFinal.pdf. If you would like to review the original Applications submitted to the NPS for these candidate sites, please go to: http://www.nps.gov/oia/NewWebpages/ApplicantsTentativeList.html.

To Request a Paper Copy of the Staff Report on the Draft U.S. World Heritage Tentative List Contact: April Brooks, Office of International Affairs, NPS, 1201 Eye Street, NW., (0050), Washington, DC 20005; or via phone at 202/354-1808; or via e-mail at april_brooks@nps.gov.

SUPPLEMENTARY INFORMATION: Title: Application for the Inclusion of a Property in the U.S. World Heritage Tentative List.

Bureau Form #(s): None.

OMB #: 1024-0050.

Expiration Date: 08/31/2009.

Type of Request: New Collection.

Description of Need: The U.S. World Heritage List is an international list of cultural and natural properties of outstanding universal value nominated by the signatories of the World Heritage Convention (1972). In 1973, the United States was the first nation to ratify the treaty. U.S. participation and the roles of the Department of the Interior and the NPS are authorized by Title IV of the Historic Preservation Act Amendments of 1980 and conducted in accordance with 36 CFR 73—World Heritage Convention.

A Tentative List is a national list of natural and cultural properties appearing to meet the World Heritage Committee eligibility criteria for nomination to the World Heritage List. It is a list of candidate sites which a country intends to consider for nomination within a given time period.

The World Heritage Committee has issued Operational Guidelines asking participating nations to provide Tentative Lists, which aid in evaluating properties for the World Heritage List on a comparative international basis and help the Committee to schedule its work over the long term. The Guidelines recommend that a nation review its Tentative List at least once every decade. The new Tentative List will altogether replace the current U.S. Tentative List (formerly Indicative Inventory) that was published by NPS in the Federal Register on May 6, 1982 (FR 47, 88: 19648-19655) and amended with an additional site in 1983 and one other in 1990.

In order to guide the U.S. World Heritage Program effectively and in a timely manner NPS intends to prepare and submit through the Secretary of the Interior and the Secretary of State to the World Heritage Centre of UNESCO by February 1, 2008, a Tentative List of properties that appear to meet the criteria for nomination and can be nominated during the ensuing decade (2009-2019), starting on or before February 1, 2009. The number of sites included on the proposed Tentative List is limited so as to meet the World Heritage Committee's request that the Tentative List allow for the nomination of no more than two sites per year by any one nation (excluding potential emergency nominations not at present foreseen).

Only sites that have been formally found to be of national significance and that have such legal protections as appear necessary to ensure the preservation of the properties and their environment may even be given preliminary consideration for nomination by the United States. By law and regulation, all property owners must also concur in any World Heritage nomination. Only properties for which Applications were submitted and signed by owners or authorized representatives have been considered for inclusion in the new U.S. World Heritage Tentative List.

Inclusion in the Tentative List does not confer World Heritage status or confer any other legal effects on a property, but merely indicates that a property may be further examined for possible World Heritage nomination in the future.

The National Park Service Office of International Affairs (NPS-OIA) and the George Wright Society (GWS) have worked together under a cooperative agreement to prepare the new U.S. Tentative List. The present notice provides an opportunity for property owners and the public to comment on the NPS staff recommendations for the Tentative List and the accompanying explanatory essay. Subsequently, the Secretary of the Interior, through the Assistant Secretary for Fish and Wildlife and Parks, will determine the composition of the new Tentative List and will, as previously noted, submit it through the U.S. Department of State to the World Heritage Committee.

The NPS staff recommendations along with the U.S. National Commission for UNESCO recommendations appear at the end of this Notice. The Tentative List is to consist of properties that appear to quality for World Heritage status and which may be considered for nomination by the United States to the World Heritage List during the next decade. The opportunity for the public to comment is part of a process that has also included the review of the NPS staff recommendations by the U.S. National Commission for UNESCO, a Federal Advisory Commission (FACA) to the U.S. Department of State.

Process for Developing the U.S. World Heritage Tentative List: The NPS-OIA provided an Application form in August 2006 for voluntary applications to a new U.S. World Heritage Tentative List by governmental and private property owners. It was intended that preparers use the Application to demonstrate that their properties meet the criteria established by the World Heritage Committee for inclusion in the World Heritage List (which can be found in the general information on the Tentative List on the NPS-OIA website) and other requirements, including those of U.S. domestic law (16 U.S.C. 470 a-1, a-2, d) and the program regulations (36 CFR 73—World Heritage Convention).

Thirty-seven (37) Applications were received by the April 1, 2007 deadline. Two were subsequently withdrawn. The NPS recommendations were based on staff review of the Applications by the OIA, in consultation with NPS subject matter experts and external reviewers for cultural and natural resources who are knowledgeable about the World Heritage Committee's policies, practices and precedents. Additional correspondence and/or Addenda containing revised or expanded material was received from most applicants in response to written reviews that were provided to them; all of this material has been carefully considered.

Results of Review: Below is a summary of the NPS staff recommendations, which were also provided to the World Heritage Tentative List Subcommittee of the U.S. National Commission for UNESCO for review. The specific NPS staff recommendations are listed at the end of this notice.

The OIA recommends 19 sites for a new Tentative List. These include three natural properties, 15 cultural properties (two of which are extensions to currently inscribed World Heritage Sites), and one mixed natural and cultural property. The staff review recommends four additional sites for future consideration.

NPS specifically requests comments on: (1) The qualifications of the properties listed below as staff recommendations for inclusion in the U.S. World Heritage Tentative List; (2) their assignment to the categories in which they are grouped; (3) how the Tentative List should be added to or revised in the future; (4) how and by whom World Heritage nominations will be prepared; and (5) how to improve public awareness and understanding of the World Heritage program in the United States. In formulating your comments, you may wish to take account of the U.S. National Commission for UNESCO's recommendations referenced just below.

It should be emphasized that the attached list reflects an interim step in the process and is not the final version of the new U.S. World Heritage Tentative List. All public comments that will contribute to the development of the final Tentative List are welcomed and will be summarized and provided to the Department of the Interior officials who will determine the content of the Tentative List.

Comments are also invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Review by U.S. National Commission for UNESCO: The staff recommendations for the draft Tentative List were reviewed by a subcommittee of the U.S. National Commission for UNESCO—which included Federal agency representatives drawn from the Federal Interagency Panel on World Heritage—on September 27, 2007. The subcommittee presented its recommendations to the full Commission in a conference call on October 4, 2007, in which the public participated. The recommendations by the National Commission, including those which differ from the NPS staff recommendations, are being displayed on the NPS staff recommended list below and posted on the National Commission's website where they may be consulted at http://www.state.gov/p/io/unesco. The members of the National Commission and the World Heritage Draft Tentative List Subcommittee are identified on the same Web site. The contact for the U.S. National Commission for UNESCO is Ken Kolson at 202/663-0289 (kolsonkl@state.gov).

Further Actions: The NPS will consider public comments and the National Commission's advice and submit a proposed Tentative List through the Assistant Secretary for Fish and Wildlife and Parks to the U.S. Secretary of the Interior, who will determine the final composition of the Tentative List. The list will be transmitted to the World Heritage Centre by the Department of State by February 1, 2008. This deadline complies with the necessary timeline for preparing the first nominations of sites from the Tentative List in calendar 2008 for submission by February 1, 2009. Such nominations will be prepared in full compliance with the applicable portion of 36 CFR 73.7, the World Heritage Program Regulations.

Draft U.S. World Heritage Tentative List

Summary of Nps Staff Recommendations*

* (Where the U.S. National Commission for UNESCO's Recommendations Differ from those of the NPS Staff Report, they are indicated with the following numbers):

¹ Recommended for Future Consideration by the U.S. National Commission for UNESCO.

² Recommended to be placed in “Other Properties Considered” by the U.S. National Commission for UNESCO.

Natural Properties Recommended for Inclusion (3)

Petrified Forest National Park, Arizona.

White Sands National Monument, New Mexico.

Okefenokee Swamp National Wildlife Refuge, Georgia.

Mixed Property Recommended for Inclusion (1)

Papahanaumokuakea Marine National Monument, Hawaii.

Cultural Properties Recommended for Inclusion (13)

Poverty Point State Historic Site, Louisiana.

Hopewell Ceremonial Earthworks, Ohio.

Frank Lloyd Wright Buildings, Arizona, California, Illinois, New York, Oklahoma, Pennsylvania and Wisconsin.

Civil Rights Movement Sites, Alabama.

Serpent Mound, Ohio.

San Antonio Franciscan Missions, Texas.

¹ French Creole Properties of the Mid-Mississippi Valley, Illinois and Missouri.

¹ Eastern State Penitentiary, Pennsylvania.

¹ Olana (Home of Frederic Church), New York.

¹ Dayton Aviation Sites, Ohio.

¹ Gamble House, California.

¹ Pipestone National Monument, Minnesota.

² Mount Vernon, Virginia.

Recommended Extensions of World Heritage Cultural Sites (2)

Thomas Jefferson Buildings: Poplar Forest and the Virginia State Capitol, Virginia.

¹ Moundville Site, Alabama.

Cultural Properties Recommended for Future Consideration (4)

Moravian Bethlehem, Pennsylvania.

Colonial Newport, Rhode Island.

Shaker Villages, Maine, New Hampshire, New York and Kentucky.

Underground Railroad Sites (John Parker and John Rankin Houses, Ripley, Ohio).

Other Natural Properties Considered (2)

¹ Fagatele Bay National Marine Sanctuary, American Samoa.

¹ Stellwagen Bank National Marine Sanctuary, Massachusetts.

Other Cultural Properties Considered (9)

Blackwater Draw Locality No. 1, New Mexico.

Meadowcroft Rockshelter, Pennsylvania.

SunWatch Village, Ohio.

Historic Center of Savannah, Georgia.

New Harmony, Indiana.

Central of Georgia, Savannah Shed and Terminal Facility, Georgia.

Gilded Age Newport, Rhode Island.

Shenandoah-Dives Mill, Colorado.

Columbia River Highway, Oregon.

Dated: October 25, 2007.
Leonard E. Stowe,
NPS, Information Collection Clearance Officer.

[FR Doc. E7-21377 Filed 10-30-07; 8:45 am]

BILLING CODE 4312-53-P